DEPARTMENT OF STATE

[Public Notice 8539]

Activities of the International Telecommunication Advisory Committee and Preparations for Upcoming International Telecommunications Meetings

This notice announces a meeting of the Department of State's International Telecommunication Advisory Committee (ITAC) to review the activities of the committee over the last quarter and prepare for activities in the next quarter.

The ITAC will meet on December 19, 2013 at 2 p.m. EST to review the preparations for and outcomes of international telecommunications meetings of the International Telecommunication Union, the Inter-American Telecommunications Commission, the Organization for Economic Cooperation and Development, and the Asia Pacific Economic Cooperation Telecommunications and Information Working Group over the last quarter, and announce preparations for similar activities for the next quarter.

In particular, preparations for the World Telecommunications Development Conference, the Plenipotentiary Conference, and the Ten year review of implementation of the World Summit on the Information Society outcomes will be discussed.

Details on this ITAC meeting, including the meeting location, will be announced on the Department of State's email list, ITAC@lmlist.state.gov. Use of the ITAC list is limited to meeting announcements and confirmations, distribution of agendas and other relevant meeting documents.

Subscription to the ITAC list is open. Persons wishing to participate in the ITAC list, desiring further information on this or other preparatory meetings, including those wishing to request reasonable accommodation to attend the meeting, should contact the Secretariat at minardje@state.gov.

Attendance at these meetings is open to the public as seating capacity allows. The public will have an opportunity to provide comments at these meetings at the invitation of the chair. A conference bridge will be provided to those people outside the Washington Metro area who request it from the secretariat.

Dated: November 25, 2013.
Cecily Holiday,
Foreign Affairs Officer, International Communications & Information Policy, U.S. Department of State.

[FR Doc. 2013-28919 Filed 12-2-13; 8:45 am]

BILLING CODE 4710-07-P